DEPARTMENT OF THE TREASURY

Agency Information Collection Activities; Submission for OMB Review; Comment Request; Multiple Departmental Offices Information Collection Requests

AGENCY: Departmental Offices, Department of the Treasury.

ACTION: Notice.

SUMMARY: The Department of the Treasury will submit the following information collection requests to the Office of Management and Budget (OMB) for review and clearance in accordance with the Paperwork Reduction Act of 1995, on or after the date of publication of this notice. The public is invited to submit comments on these requests.

DATES: Comments should be received on or before November 24, 2021 to be assured of consideration.

ADDRESSES: Written comments and recommendations for the proposed information collection should be sent within 30 days of publication of this notice to www.reginfo.gov/public/do/PRAMain. Find this particular information collection by selecting “Currently under 30-day Review—Open for Public Comments” or by using the search function.

FOR FURTHER INFORMATION CONTACT: Copies of the submissions may be obtained from Molly Stasko by emailing PRA@treasury.gov, calling (202) 622-8922, or viewing the entire information collection request at www.reginfo.gov.

SUPPLEMENTARY INFORMATION:

1. Title: Treasury International Capital Form S, Purchases and Sales of Long-term Securities by Foreign-Residents.

OMB Control Number: 1505-0001.

Type of Review: Extension without change of a currently approved collection.

Description: Form S is part of the Treasury International Capital (TIC) reporting system, which is required by law (22 U.S.C. 286f; 22 U.S.C. 3103; E.O. 10033; 31 CFR 128), and is designed to collect timely information on international portfolio capital movements. Form S is a monthly report used to cover transactions in long-term marketable securities undertaken directly with foreigners by banks, other depository institutions, brokers, dealers, underwriting groups, funds and other individuals and institutions. This information is used by the U.S. Government in the formulation of international financial and monetary policies and for the analysis of the U.S. international transactions (balance of payments).

Form: Form S.

Affected Public: Businesses or other for-profit institutions.

Estimated Number of Respondents: 185.

Frequency of Response: Monthly.

Estimated Total Number of Annual Responses: 2,220.

Estimated Time per Response: Six and three-fourth hours per respondent per filing. The estimated average time per filing varies from 11.8 hours for the approximately 30 major reporters to 5.9 hours for the other reporters.

Estimated Total Annual Burden Hours: 15,010 hours.

2. Title: Treasury International Capital (TIC) Form SHL/SHLA, “Survey of Foreign-Residents' Holdings of U.S. Securities, including Selected Money Market Instruments”.

OMB Control Number: 1505-0123.

Type of Review: Extension without change of a currently approved collection.

Description: This form collects foreign-residents' holdings of U.S. securities. These data are used by the U.S. Government in the formulation of international financial and monetary policies, and for the computation of the U.S. international transactions (balance of payments) and of the U.S. international investment position. These data are also used to provide information to the public and to meet international reporting commitments. The data collection includes large benchmark surveys (Form SHL) conducted every five years, and smaller annual surveys (Form SHLA) conducted in the non-benchmark years. The data collected under an annual survey are used in conjunction with the results of the preceding benchmark survey and of recent TIC form SLT (“Aggregate Holdings of Long-Term Securities by U.S. and Foreign Residents”) reporting to make economy-wide estimates for that non-benchmark year. Currently, the determination of who must report in the annual surveys is based primarily on the data submitted during the preceding benchmark survey and on data submitted on SLT reporting. The data requested in the annual survey will generally be the same as requested in the preceding benchmark report. Form SHL is used for the benchmark survey of all significant U.S.-resident custodians and U.S.-resident issuers of securities regarding foreign-residents' holdings of U.S. securities. In non-benchmark years, Form SHLA is used for the annual surveys of primarily the largest U.S.-resident custodians and issuers.

Form: TIC SHL/SHLA, Schedules 1 and 2.

Affected Public: Businesses or other for-profit institutions.

Estimated Number of Respondents: 317 on average annually, but this varies widely from about 840 in benchmark years (once every five years) to about 185 in other years (four out of every five years).

Frequency of Response: Annually.

Estimated Time per Response: 133 hours on average annually, but this will vary widely from respondent to respondent. (a) In the year of a benchmark survey, which is conducted once every five years, it is estimated that exempt respondents will require an average of 17 hours; for custodians of securities, the estimate is a total of 321 hours on average, but this figure will vary widely for individual custodians; and for issuers of securities that have data to report and are not custodians, the estimate is 61 hours on average. (b) In a non-benchmark year, which occurs four years out of every five years, it is estimated that the largest custodians of securities will require a total of 486 hours on average; and for the largest issuers of securities that have data to report and are not custodians, the estimate is 110 hours on average. The exemption level for custodians and for issuers of securities filing Schedule 2 for a benchmark survey is the holding on June 30 of less than $200 million in reportable U.S. securities owned by foreign residents.

Estimated Total Annual Burden Hours: 42,035 hours.

3. Title: Treasury International Capital (TIC) Form SHC/SHCA “U.S. Ownership of Foreign Securities, including Selected Money Market Instruments.”

OMB Control Number: 1505-0146.

Type of Review: Revision of a currently approved collection.

Description: Form SHC/SHCA is part of the Treasury International Capital (TIC) reporting system, which is required by law (22 U.S.C. 3101 et seq.; E.O. 11961; 31 CFR 129) and is used to conduct annual surveys of U.S. residents' ownership of foreign securities for portfolio investment purposes. These data are used by the U.S. Government in the formulation of international financial and monetary policies, and for the computation of the U.S. international transactions (balance of payments) and of the U.S. international investment position. These data are also used to provide information to the public and to meet international reporting commitments. The SHC/SHCA survey is part of an internationally coordinated effort under the auspices of the International Monetary Fund to improve data on securities worldwide. Most of the major industrial and financial countries conduct similar surveys.

The data collection includes large benchmark surveys (Form SHC) conducted every five years, and smaller annual surveys (Form SHCA) conducted in the non-benchmark years. The data collected under an annual survey are used in conjunction with the results of the preceding benchmark survey and of recent TIC form SLT (“Aggregate Holdings of Long-Term Securities by U.S. and Foreign Residents”) reporting to make economy-wide estimates for that non-benchmark year. Currently, the determination of who must report in the annual surveys is based primarily on the data submitted during the preceding benchmark survey and on data submitted on SLT reports. The data requested in the annual survey will generally be the same as requested in the preceding benchmark report. Form SHC is used for the benchmark survey of all significant U.S.-resident custodians and end-investors regarding U.S. ownership of foreign securities. In non-benchmark years Form SHCA is used for the annual surveys of primarily the very largest U.S.-resident custodians and end-investors.

Form: SHC/SHCA, Schedules 1, 2 and 3.

Affected Public: Businesses or other for-profit institutions.

Estimated Number of Respondents: 324 on average annually, but this varies widely from about 760 in benchmark years (once every five years) to about 215 in other years (four out of every five years).

Frequency of Response: Annually.

Estimated Time per Response: 200 hours on average annually, but this will vary widely from respondent to respondent. (a) In the year of a benchmark survey, which is conducted once every five years, it is estimated that exempt respondents will require an average of 17 hours; custodians of securities providing security-by-security information will require an average of 361 hours, but this figure will vary widely for individual custodians; end-investors providing security-by-security information will require an average of 121 hours; and end-investors and custodians employing U.S. custodians will require an average of 41 hours. (b) In a non-benchmark year, which occurs four years out of every five years: Custodians of securities providing security-by-security information will require an average of 546 hours (because only the largest U.S.-resident custodians will report), but this figure will vary widely for individual custodians; end-investors providing security-by-security information will require an average of 146 hours; and reporters entrusting their foreign securities to U.S. custodians will require an average of 49 hours. The exemption level for custodians and for end-investors filing Schedule 2 or 3 or both for a benchmark survey is the holding at end-year of less than $200 million in reportable foreign securities owned by U.S. residents. For Schedule 2, end-investors should exclude securities that are held with their unaffiliated U.S.-resident custodians.

Estimated Total Annual Burden Hours: 64,700 hours.

4. Title: Treasury International Capital Form D, “Report of Holdings of, and Transactions in, Financial Derivatives Contracts with Foreign Residents.”

OMB Control Number: 1505-0199.

Type of Review: Extension without change of a currently approved collection.

Description: Form D is part of the Treasury International Capital (TIC) reporting system, which is required by law (22 U.S.C. 286f; 22 U.S.C. 3103; E.O. 10033; 31 CFR 128), and is designed to collect timely information on international capital movements other than direct investment by U.S. persons. Form D is a quarterly report used to cover holdings and transactions in derivatives contracts undertaken between foreign resident counterparties and major U.S.-resident participants in derivatives markets. This information is used by the U.S. Government in the formulation of international financial and monetary policies and for the preparation of the U.S. international transactions (balance of payments) and the U.S. international investment position.

Form: Form D.

Affected Public: Businesses or other for-profit institutions.

Estimated Number of Respondents: 29.

Frequency of Response: Quarterly.

Estimated Time per Response: 30 hours.

Estimated Total Annual Burden Hours: 3,480 hours.

Authority: 44 U.S.C. 3501 et seq.

Dated: October 20, 2021.
Molly Stasko,
Treasury PRA Clearance Officer.

[FR Doc. 2021-23199 Filed 10-22-21; 8:45 am]

BILLING CODE 4810-AK-P